DEPARTMENT OF THE INTERIOR

National Park Service

Concession Contracts and Permits: Expiring Contracts; Extension for up to One Year

AGENCY: National Park Service, Interior.

ACTION: Public notice.

SUMMARY: Pursuant to the terms of existing concession permits, with the exception of construction on National Park Service lands, public notice is hereby given that the National Park Service intends to provide visitor services under the authority of a temporary concession contract with a term of up to one year from the date of permit expirations.

SUPPLEMENTARY INFORMATION: The permits listed below have been extended to the maximum allowable under 36 CFR 51.23. Under the provisions of current concession permits, with one exception, and pending the development and public solicitation of a prospectus for a new concession permit, the National Park Service authorizes continuation of visitor services under a temporary concession contract for a period of up to one year from the expiration of the current concession permit. The exception precludes construction on National Park Service lands, regardless of whether the current permit authorizes such activity. The temporary contract does not affect any rights with respect to selection for award of a new concession contract.

Conc ID No. | Concessioner name | Park
ANIA904-98 | King Guiding Service | Aniakchak National Monument.
ANIA903-98 | Katmai Guide Service | Aniakchak National Monument.
ANIA906-98 | Cinder River Lodge | Aniakchak National Monument.
LACL901-96 | Northward Bound | Lake Clark National Park.
LACL902-95 | Alaska Wilderness Trips | Lake Clark National Park.
GAAR001-95 | Richard A. Guthrie | Gates of the Arctic National Preserve.
GAAR002-96 | Rob Holt | Gates of the Arctic National Preserve.

EFFECTIVE DATE: January 2, 2003.

FOR FURTHER INFORMATION CONTACT: Cynthia Orlando, Concession Program Manager, National Park Service, Washington, DC 20240, Telephone, 202/513-7156.

Dated: October 24, 2002.
Richard G. Ring,
Associate Director, Administration, Business Practices and Workforce Development.

[FR Doc. 02-28515 Filed 11-7-02; 8:45 am]

BILLING CODE 4310-70-M